DEPARTMENT OF THE INTERIOR

Fish and Wildlife Service

[FWS-R5-R-2010-N244; BAC-4311-K9-S3]

Bombay Hook National Wildlife Refuge, Kent County, DE; Comprehensive Conservation Plan and Environmental Assessment

AGENCY: Fish and Wildlife Service, Interior.

ACTION: Notice of intent; request for comments.

SUMMARY: We, the U.S. Fish and Wildlife Service (Service), intend to prepare a comprehensive conservation plan (CCP) and associated environmental assessment (EA) for Bombay Hook National Wildlife Refuge (BHNWR). We provide this notice in compliance with our policy to advise other Federal and State agencies, Tribes, and the public of our intentions, and to obtain suggestions and information on the scope of issues to consider in the planning process.

DATES: To ensure consideration, please send your written comments by September 1, 2011. Submit comments by one of the methods listed under ADDRESSES. We will announce opportunities for public input in local news media throughout the CCP process.

ADDRESSES: Send your comments or requests for more information on the planning process by any of the following methods.

E-mail: northeastplanning@fws.gov. Include “Bombay Hook NWR” in the subject line of the message.

Fax: Attn: Thomas Bonetti, 413-253-8468.

U.S. Mail: Thomas Bonetti, Refuge Planner, U.S. Fish and Wildlife Service, 300 Westgate Center Drive, Hadley, MA 01035.

In-Person Drop-off: You may drop off comments during regular business hours at the above address, or at Bombay Hook National Wildlife Refuge, 2591 Whitehall Neck Road, Smyrna, DE 19977. Please call 302-653-9345 for directions.

FOR FURTHER INFORMATION CONTACT: Michael Stroeh, Project Leader, Bombay Hook National Wildlife Refuge, 2591 Whitehall Neck Road, Smyrna, DE 19977; 302-653-9345 (phone); 302-653-0684 (fax); FW5_BHNWR@fws.gov (e-mail) or Web site: http://www.fws.gov/northeast/bombayhook/.

SUPPLEMENTARY INFORMATION:

Introduction

With this notice, we initiate the process for developing a CCP for BHNWR, located in Kent County, Delaware. This notice complies with our CCP policy to: (1) Advise other Federal and State agencies, Tribes, and the public of our intention to conduct detailed planning on this refuge, and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Our CCP process provides participation opportunities for Tribal, State, local government agencies, organizations, and the public. At this time we encourage input in the form of issues, concerns, ideas, and suggestions for the future management of BHNWR.

We will conduct the environmental review of this project and develop an EA in accordance with the requirements of the National Environmental Policy Act of 1969, as amended (NEPA) (42 U.S.C. 4321 et seq.), NEPA regulations (40 CFR parts 1500-1508), other appropriate Federal laws and regulations, and our policies and procedures for compliance with those laws and regulations.

Bombay Hook National Wildlife Refuge

Under Executive Order (EO) 7643, dated June 22, 1937, BHNWR was established “* * * as a refuge and breeding ground for migratory birds and other wildlife. * * *” Two other authorities supported additional land protection: the Migratory Bird Conservation Act “* * * for use as an inviolate sanctuary, or for any other management purpose, for migratory birds” (16 U.S.C. 715d) and the General Services Administration. Transfer Authority for “* * * carrying out the national migratory bird management program” (16 U.S.C. 667b).

The refuge currently encompasses 16,251 acres, located in Kent County, Delaware. Comprised of 80 percent tidal salt marsh, it also includes 1,100 acres of impounded freshwater pools, brushy and timbered swamps, and timbered and grassy upland. The refuge's location along the Atlantic Flyway makes it a vital resting and feeding spot for a large number and diversity of birds.

Popular attractions within the refuge include a wide array of habitats for wildlife observation and photography, the 12-mile auto tour route, and five nature trails, including Bear Swamp Boardwalk and Trails that are handicap accessible. The refuge also provides other wildlife-dependent recreational opportunities such as hunting deer, turkey, small game, and waterfowl, and has an established environmental education program. The historic circa-1753 Allee House is located on the refuge and requires restoration before it can be re-opened to the public.

Scoping: Preliminary Issues, Concerns, and Opportunities

We have identified preliminary issues, concerns, and opportunities that we may address in the CCP. We have briefly summarized these issues below. During public scoping, we may identify additional issues.

Climate Change and Interior Marsh Loss

A growing body of evidence indicates that accelerating climate change, associated with increasing global temperatures, is affecting water, land, and wildlife resources. Along the Delaware Bay, rising sea levels have begun to affect fish and wildlife habitats, including those used by waterfowl, wading birds, and shorebirds on our national wildlife refuges. Interior marsh loss is occurring at a rate of approximately 58 acres per year at the refuge, and this important habitat is primarily converting to open water. Successful conservation strategies will require an understanding of climate change and the ability to predict how those changes will affect fish and wildlife at multiple scales.

Mosquito Control

Balancing the needs of wildlife and people is becoming more difficult as residential developments encroach upon wild areas and more visitors participate in wildlife-dependent recreational opportunities on the refuge. Providing quality habitat in sufficient quantities for an increasing number of species and individuals is challenging to wildlife managers and biologists. Mosquitoes are a part of the natural environment and a food source for a variety of wildlife. More importantly, insecticides, in particular adulticides that are used to control mosquitoes, kill non-target insects that are utilized by fish, amphibians, and migratory birds as important food sources. BHNWR will continue to work with the State's Mosquito Control Section related to mosquito control on the refuge while striving to protect the biological integrity, diversity, and environmental health of the refuge.

Allee House

The Allee House at BHNWR stands today, as it did in the 18th century, overlooking the fields and marshes of Kent County. The original restoration of the Allee House was completed in 1966, and in 1971, it was placed on the National Register of Historic Places. The Allee House is in need of major repairs, and is closed to visitors until further notice. A Comprehensive Condition Assessment and Preventive Maintenance Plan were completed in 2010. The work required to properly protect and restore the house to historical standards is extensive and costly and is estimated at a cost of $1,000,000.

Farming

Cooperative farming has been utilized on the refuge since its establishment. Farming is still considered a viable wildlife management tool, but the role of the farming program has changed over the years. BHNWR suspended the cooperative farming program in January 2010 because the NEPA documentation was not completed. Subsequently, a complaint was filed in Federal court in March 2010 to cease cooperative farming on the refuge. We will evaluate the farming program and its support of our conservation priorities in the CCP process.

Hunting

On the Delmarva Peninsula, hunting is a traditional outdoor pastime that is deeply rooted in American and Delaware heritage. Opportunities for public hunting are decreasing with increasing private land development. Refuge lands thus become increasingly important in the region as a place to engage in this activity. Hunting will continue to be an integral component of the public use program at the refuge. The Service Manual (605 FW 2) states that hunting programs must provide quality experiences for the public, be compatible with the mission of the NWRS and the purposes of the refuge, and, to the extent practicable, be consistent with State fish and wildlife laws and regulations. In scoping for the CCP, we invite suggestions on how to improve the current hunting program.

Public Meetings

We will give the public an opportunity to provide input at public meetings. You can obtain the schedule from the refuge manager or planning team leader (see FOR FURTHER INFORMATION CONTACT). We will also announce public meetings in the local news media. You may also send comments anytime during the planning process by mail, e-mail, or fax (see ADDRESSES). There will be additional opportunities to provide public input once we have prepared a draft CCP.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: May 19, 2011.
Wendi Weber,
Acting Regional Director, Region 5, U.S. Fish and Wildlife Refuge, Hadley, MA 01035.

[FR Doc. 2011-15356 Filed 6-20-11; 8:45 am]

BILLING CODE 4310-55-P